DEPARTMENT OF HOMELAND SECURITY

U.S. Customs and Border Protection

19 CFR Parts 4, 122, 123, 145 and 149

[Docket No. USCBP-2021-0009; CBP Dec. 21-04]

RIN 1651-AB33

Mandatory Advance Electronic Information for International Mail Shipments; Re-Opening of Comment Period

AGENCY: U.S. Customs and Border Protection, DHS.

ACTION: Interim final rule; reopening of comment period.

SUMMARY: On March 15, 2021, U.S. Customs and Border Protection (CBP) published in the Federal Register an Interim Final Rule (IFR), which amends the CBP regulations to provide for mandatory advance electronic data (AED) for international mail shipments. Although the comment period for this IFR closed on May 14, 2021, CBP has decided to reopen the comment period for an additional 30 days.

DATES: Effective date: The interim final rule published on March 15, 2021 (86 FR 14245), was effective March 15, 2021.

Comment date: The comment period for the interim final rulemaking published on is reopened for an additional 30 days. Comments must be received on or before June 24, 2021.

FOR FURTHER INFORMATION CONTACT: For policy questions related to mandatory AED for international mail shipments, contact Quintin Clarke, Cargo and Conveyance Security, Office of Field Operations, U.S. Customs & Border Protection, by telephone at (202) 344-2524, or email at quintin.g.clarke@cbp.dhs.gov.

ADDRESSES: Please submit any comments, identified by docket number [Docket No. USCBP-2021-0009; CBP Dec. 21-04] by the following method:

• Federal eRulemaking Portal: https://www.regulations.gov. Follow the instructions for submitting comments. Due to COVID-19-related restrictions, CBP has temporarily suspended its ability to receive public comments by mail.

Instructions: All submissions received must include the agency name, docket number for this rulemaking and must reference docket number [Docket No. USCBP-2021-0009; CBP Dec. 21-04]. All comments received will be posted without change to https://www.regulations.gov, including any personal information provided. For detailed instructions on submitting comments and additional information on the rulemaking process, see the “Public Participation” heading of the SUPPLEMENTARY INFORMATION section of this document.

Docket: For access to the docket to read background documents or comments received, go to https://www.regulations.gov. Due to relevant COVID-19-related restrictions, CBP has temporarily suspended its on-site public inspection of submitted comments.

SUPPLEMENTARY INFORMATION:

Public Participation

Interested persons are invited to participate in this rulemaking by submitting written data, views, or arguments on the IFR. Comments that will provide the most assistance to CBP will reference a specific portion of the IFR, explain the reason for any recommended change, and include data, information, or authority that support such recommended change.

Background

To address the threat of synthetic opioids and other dangerous items entering the United States through international mail shipments and to implement the requirements of the Synthetics Trafficking and Overdose Prevention Act of 2018 (STOP Act), Public Law 115-271, CBP amended its regulations on March 15, 2021 through publication in the Federal Register (86 FR 14245) of an IFR entitled “Mandatory Advance Electronic Information for International Mail Shipments.” These amended regulations require the United States Postal Service (USPS) to transmit certain electronic information in advance to CBP. Specifically, these regulations provide that, for certain international mail shipments, CBP must electronically receive from USPS certain mandatory advance electronic data (AED) within specified time frames. These regulations describe the new mandatory AED requirements, including the inbound international mail shipments for which AED is required, the time frame for which USPS must provide the required AED to CBP, and the criteria for exclusion from AED requirements. Further, the regulations address compliance dates and the necessary remedial actions required for shipments in which USPS has not complied with AED requirements.

To increase public participation and in the interest of good governance, CBP is reopening the comment period for an additional 30 days to allow for further comments to be submitted on the IFR. Comments must be received on or before June 24, 2021.

Dated: May 20, 2021,
Joanne R. Stump,
Acting Executive Director, Regulations and Rulings, Office of Trade, U.S. Customs and Border Protection.

[FR Doc. 2021-10998 Filed 5-24-21; 8:45 am]

BILLING CODE 9111-14-P